DEPARTMENT OF COMMERCE

National Oceanic and Atmospheric Administration

50 CFR Part 679

[Docket No. 190925-0043]

RIN 0648-BJ03

Fisheries of the Exclusive Economic Zone Off Alaska; Rockfish Management in the Groundfish Fisheries of the Bering Sea and Aleutian Islands and the Gulf of Alaska

AGENCY: National Marine Fisheries Service (NMFS), National Oceanic and Atmospheric Administration (NOAA), Commerce.

ACTION: Proposed rule; request for comments.

SUMMARY: NMFS proposes regulations to implement Amendment 119 to the Fishery Management Plan for Groundfish of the Bering Sea and Aleutian Islands Management Area (BSAI FMP) and Amendment 107 to the Fishery Management Plan for Groundfish of the Gulf of Alaska (GOA FMP). This proposed rule would require that the operator of a federally permitted catcher vessel using hook-and-line, pot, or jig gear in the Bering Sea and Aleutian Islands and Gulf of Alaska retain and land all rockfish (Sebastes and Sebastolobus species) caught while fishing for groundfish or Pacific halibut. This action is necessary to improve identification of rockfish species catch by vessels using electronic monitoring, provide more precise estimates of rockfish catch, reduce waste and incentives to discard rockfish, reduce overall enforcement burden, and promote more consistent management between State and Federal fisheries. This proposed rule is intended to promote the goals and objectives of the Magnuson-Stevens Fishery Conservation and Management Act, the BSAI FMP, the GOA FMP, and other applicable laws.

DATES: Submit comments on or before November 1, 2019.

ADDRESSES: Submit your comments, identified by FDMS Docket Number NOAA-NMFS-2019-0068, by either of the following methods:

• Federal e-Rulemaking Portal: Go to www.regulations.gov/#!docketDetail;D=NOAA-NMFS-2019-0068, click the “Comment Now!” icon, complete the required fields, and enter or attach your comments.

• Mail: Submit written comments to Glenn Merrill, Assistant Regional Administrator, Sustainable Fisheries Division, Alaska Region NMFS. Mail comments to P.O. Box 21668, Juneau, AK 99802-1668.

Instructions: NMFS may not consider comments if they are sent by any other method, to any other address or individual, or received after the comment period ends. All comments received are a part of the public record and NMFS will post the comments for public viewing on www.regulations.gov without change. All personal identifying information (e.g., name, address), confidential business information, or otherwise sensitive information submitted voluntarily by the sender will be publicly accessible. NMFS will accept anonymous comments (enter “N/A” in the required fields if you wish to remain anonymous).

Electronic copies of Amendment 119 to the BSAI FMP, Amendment 107 to the GOA FMP (collectively Amendments 119/107), the Regulatory Impact Review (RIR; referred to as the Analysis), and the National Environmental Policy Act Categorical Exclusion evaluation document prepared for this action may be obtained from www.regulations.gov.

Written comments regarding the burden-hour estimates or other aspects of the collection-of-information requirements contained in this rule may be submitted by mail to NMFS at the above address; and by email to OIRA_Submission@omb.eop.gov or by fax to (202)-395-5806.

FOR FURTHER INFORMATION CONTACT: Josh Keaton (907) 586-7228.

SUPPLEMENTARY INFORMATION:

Authority for Action

NMFS manages the groundfish fisheries in the exclusive economic zone of the Bering Sea and Aleutian Islands (BSAI) and Gulf of Alaska (GOA) under the BSAI FMP and GOA FMP. The North Pacific Fishery Management Council (Council) prepared the BSAI FMP and GOA FMP under the authority of the Magnuson-Stevens Fishery Conservation and Management Act (Magnuson-Stevens Act), 16 U.S.C. 1801 et seq. Regulations governing U.S. fisheries and implementing the BSAI FMP and GOA FMP appear at 50 CFR parts 600 and 679.

This proposed rule would implement Amendments 119/107. The Council submitted Amendments 119/107 for review by the Secretary of Commerce (Secretary), and a Notice of Availability (NOA) of Amendments 119/107 was published in the Federal Register on August 22, 2019 (84 FR 43783), with comments invited through October 21, 2019. Comments submitted on this proposed rule by the end of the comment period (see DATES) will be considered by NMFS and addressed in the response to comments in the final rule. Comments submitted on this proposed rule may address Amendments 119/107 or this proposed rule. However, all comments addressing Amendments 119/107 must be received by October 21, 2019, to be considered in the approval/disapproval decision on Amendments 119/107. Commenters do not need to submit the same comments on both the NOA and this proposed rule. All relevant written comments received by October 21, 2019, whether specifically directed to the FMP amendments, this proposed rule, or both, will be considered by NMFS in the approval/disapproval decision for Amendments 119/107 and addressed in the response to comments in the final rule.

Background

In April 2019, the Council adopted Amendments 119/107. If approved by the Secretary, Amendments 119/107 would require that catcher vessels (CVs) using hook-and-line, pot, or jig gear in groundfish and halibut fisheries of the Federal exclusive economic zone (EEZ) retain and land all rockfish. This proposed rule would also establish a means to limit the amount of rockfish that can enter commerce through barter, sale, or trade through the implementation of a maximum commerce allowance. Additionally, this proposed rule would require full retention of rockfish by CVs using hook-and-line, pot, or jig gear even if the rockfish species is prohibited for directed fishing or on prohibited species status (as defined in § 679.20(d)(2)). When on prohibited species status, these retained rockfish would be prohibited from entering commerce, except as fish meal.

In this proposed rule “rockfish” is defined as any species of the genera Sebastes or Sebastolobus except Sebastes ciliates (dark rockfish) in the BSAI and GOA and Sebastes melanops (black rockfish) and Sebastes mystinus (blue rockfish) in the GOA (see § 679.2). This preamble also uses the term “prohibited species status” to mean status conferred by a NMFS management action issued under § 679.20(d)(2) that prohibits retention of a species.

The following sections of this preamble provide a brief description of (1) rockfish management for CVs using hook-and-line, pot, or jig gear; (2) the need for the action; (3) the elements of this proposed rule; and (4) the regulatory changes made by this proposed rule.

Description of Rockfish Management and Fisheries for CVs Using Hook-and-Line, Pot, or Jig Gear

Rockfish Management

Rockfish are commercially important groundfish comprising 29 commonly caught species. Most of these species inhabit rocky areas in shallow to moderately deep waters that overlap with groundfish and halibut fisheries. Many rockfish species are sought for their commercial value. Except for thornyhead rockfish (Sebastolobus spp.), rockfish have a closed swim bladder, which regulates buoyancy. Quick changes in pressure that occur when rockfish are caught and brought to the surface damage internal organs, therefore rockfish are susceptible to high mortality when brought to the surface from depth. Virtually no rockfish survive once caught without using special handling procedures to return the rockfish to depth as soon as possible.

Many rockfish species are commonly caught as incidental catch by vessels directed fishing for other species using hook-and-line, pot, or jig gear. NMFS prohibits directed fishing for most rockfish species at the beginning of the year because the amount of the total allowable catch (TAC) for rockfish species or species groups do not support directed fishing. If a TAC is reached, NMFS prohibits retention of the species.

Since directed fishing by CVs using hook-and-line, pot, or jig gear is already prohibited for nearly all species of rockfish, NMFS limits retention as the primary tool to regulate rockfish catch. These retention limits are referred to as the maximum retainable amount (MRA). The MRA is the proportion or percentage of retained catch of a species prohibited for directed fishing (incidental catch species) to the retained catch of a species open for directed fishing (basis species). When NMFS prohibits directed fishing for a groundfish species, retention of the catch of that species is allowed up to an MRA based on percentages set forth in Table 10 and Table 11 to 50 CFR part 679. Section 679.20(d)(iii)(B) requires vessel operators to discard at sea any rockfish that exceeds the MRA. For the individual fishing quota (IFQ) halibut and IFQ sablefish fisheries, when IFQ halibut or IFQ sablefish is on board, discarding rockfish is prohibited unless rockfish are required to be discarded (§ 679.7(f)(8)). Rockfish must be discarded for two reasons: (1) When rockfish catch is in excess of an MRA; and (2) when a rockfish species is prohibited from being retained (in a prohibited species status) because the TAC for that species has been reached.

The MRA percentages were established to discourage vessel operators from targeting rockfish and other species while fishing for halibut or groundfish species open to directed fishing. However, in some fishing areas the natural incidental catch rate of rockfish may be much higher than the specified MRA, forcing vessel operators to discard rockfish that they cannot avoid catching. MRA calculations can be challenging for a vessel operator to compute correctly, since rates for different rockfish species vary depending on the target fishery and the management area in which a vessel is fishing. The inconsistency of MRA regulations between Federal and State of Alaska (State) fisheries, between different rockfish species, and different management areas makes it difficult for a vessel operator to ensure their compliance with retention and discard requirements.

Since almost no rockfish survive being caught and brought to the surface, for CVs using hook-and-line, pot, or jig gear, at-sea discards are estimated and then deducted from that species TAC. Because some species are infrequently caught, accurate estimation of catch for those species is difficult. This results in high variance in the estimates of at-sea discards on smaller CVs. High variance most commonly occurs on smaller CVs that deploy hook-and-line, pot, or jig gear. This high variance can result in less accurate estimates of total catch of rockfish species, and can result in more restrictive management measures.

Overall, this action would not affect the status of a rockfish stock in the BSAI or GOA. The acceptable biological catch and TAC for rockfish species would continue to be established through the annual harvest specifications process. The processes by which NMFS manages the catch of a rockfish species to stay within its TAC would not change under the alternatives considered for this action.

Fisheries for CVs Using Hook-and-Line, Pot, or Jig Gear

Hook-and-line gear, pot gear, and jig gear are commonly used in groundfish fisheries in the BSAI and GOA. Hook-and-line gear is a stationary, buoyed, and anchored line with hooks attached. Pot gear is a portable structure designed to capture and retain fish alive in the water. Jig gear is a single, non-buoyed, non-anchored line with hooks attached. CVs that operate in the BSAI and GOA use hook-and-line, pot, and jig gear to prosecute primarily Pacific cod, Pacific halibut, and sablefish. There is also some directed fishing for rockfish using hook-and-line and jig gear. Many other species are caught with hook-and-line, pot, or jig gear; however, most of these species are incidental to the four main target species.

CVs using hook-and-line, pot, or jig gear fish throughout the year. As discussed in Section 2.7.1.1 of the Analysis, approximately 200 CVs use hook-and-line, pot, or jig gear in the BSAI, and approximately 950 CVs use hook-and-line, pot, or jig gear in the GOA. Some CVs participate in all three main target fisheries, and some operate in both the BSAI and GOA.

Pacific cod fisheries using hook-and-line, pot, or jig gear mostly occur in January through March and September through December. Rockfish incidental catch in these fisheries is generally low, at less than one percent of total groundfish catch, in the BSAI, and approximately one percent of total groundfish catch in the GOA (see Section 2.7.1.3 of the Analysis).

IFQ Pacific halibut and sablefish fisheries occur from March through November. Rockfish incidental catch in the Pacific halibut fishery in the BSAI is approximately three percent of the total groundfish and halibut catch. Rockfish incidental catch in the Pacific halibut fishery of the GOA is approximately five percent of total groundfish and halibut catch. The IFQ sablefish fishery in the BSAI and GOA has a rockfish incidental catch rate of approximately 10 percent. These are average rates across the entire fleet and a broad geographic area. Depending on where a vessel operator is fishing, the rate can be higher or lower.

Need for This Action

The Council recommended, and NMFS proposes, requiring full retention of all rockfish caught by CVs using hook-and-line, pot, or jig gear targeting groundfish and halibut in the GOA and BSAI for a number of reasons. These reasons include (1) improving the identification of rockfish species catch by vessels using electronic monitoring (EM); (2) providing more precise estimates of rockfish catch; (3) reducing waste and incentives to discard rockfish; (4) reducing overall enforcement burden; and (5) promoting more consistent management between State and Federal fisheries.

Improve Identification of Rockfish Species Catch by Vessels Using EM

In 2018, NMFS developed regulations to allow small fixed gear CVs in partial observer coverage to opt into EM coverage for the calendar year rather than carrying an observer. The data collected from EM systems deployed on CVs is used to obtain catch and discard information from these CVs. NMFS approved 168 CVs for EM coverage for 2019.

EM studies focused on the accuracy of species identification have shown that in most cases it is possible to identify fish to the species or species group required for management. However, some rockfish species are difficult to identify and continue to be challenging for EM to identify. These rockfish species include shortraker rockfish (Sebastes borealis), rougheye rockfish (Sebastes aleutianus), blackspotted rockfish (Sebastes melanostictus), and various other rockfish species that are less commonly caught. This proposed rule could improve the identification of rockfish species by requiring all catch to be retained and landed where it could be verified, thereby reducing potential errors in catch composition.

Provide More Precise Estimates of Rockfish Catch

Under § 679.5(e), all groundfish and halibut that is landed (i.e., caught, retained and delivered) in the EEZ must be sorted, weighed, and reported through the Interagency Electronic Reporting System (eLandings) or other NMFS approved software. Information about the at-sea discard of rockfish are collected through the North Pacific Observer Program. Estimates of rockfish discarded at-sea are recorded by fisheries observers or EM and used to calculate the at-sea discard rate. NMFS applies these rates to the catch made by vessels fishing in groundfish and halibut fisheries in the same reporting area, target fishery, and time period.

Most rockfish species have specialized habitat needs, which means they are more sparsely distributed than most other groundfish species. As a result, at-sea discard rates can be variable, which results in less precise estimates of total rockfish removals (see Section 2.7.1.3 of the Analysis). Requiring the complete retention of all rockfish caught by CVs using hook-and-line, pot, or jig gear would allow the total catch of rockfish to be sorted, weighed, and reported via eLandings instead of extrapolated from at-sea discard rates. Therefore, this proposed rule would likely result in much better information on the incidental catch of rockfish by CVs using hook-and-line, pot, or jig gear.

Reduce Waste and Incentives To Discard Rockfish

As discussed in Section 2.7.1.4 of the Analysis, more rockfish catch is retained than discarded. Since the majority of rockfish do not survive being caught, discards of rockfish increases waste. Many factors affect why a vessel operator discards rockfish. The most common reason for discards, inferred by available data, is regulatory discard. These discards occur when an MRA is exceeded during a fishing trip or if a rockfish species is on prohibited species status. Some vessel operators have expressed dissatisfaction with the current regulations requiring them to discard dead fish that could otherwise be used for human consumption. These concerns were consistently mentioned during public comment during the development of this proposed action.

The existing MRA regulations may result in vessel operators discarding rockfish to avoid enforcement actions resulting from MRA overages. Removing the MRA regulations associated with rockfish caught by CVs using hook-and-line, pot, or jig gear and requiring full retention could reduce waste.

Reduce Overall Enforcement Burden

This proposed rule would no longer require CVs using hook-and-line, pot, or jig gear to comply with MRA regulations for rockfish. This would likely reduce the number of enforcement cases associated with rockfish MRA violations, and therefore, allow the NMFS Office of Law Enforcement (NMFS OLE) to pursue other priorities. Overall, this proposed rule simplifies current regulations and promotes more consistency in the regulations. This alone is likely to increase compliance and reduce enforcement burden (see Section 2.7.2.11 of the Analysis).

Federal fisheries in the BSAI and GOA have many regulations that require vessel operators to retain certain species. Due to the broad geographic area in which fisheries occur in the BSAI and GOA, monitoring vessels while they are actively fishing presents logistical challenges. However, the use of at-sea observers, EM, vessel boarding, and monitoring of offloads can assist in monitoring compliance of full retention requirements.

Promote More Consistent Management Between State and Federal Fisheries

Rockfish retention requirements for CVs using hook-and-line, pot, or jig gear differ between fisheries in Federal waters and State waters. Vessel operators that fish in both Federal waters and State waters are subject to two different sets of regulations concerning management of rockfish incidental catch. Sections 2.6.4 and 2.7.2.5 of the Analysis illustrates the complexity of rockfish retention requirements. A vessel operator may fish in multiple areas and have differing retention requirements in a single trip. This creates confusion that may result in unintentional non-compliance or unnecessary rockfish discards.

The State already has full retention requirements for all rockfish in some areas, which include parts of the Eastern GOA, Prince William Sound, and Cook Inlet. This proposed rule would establish Federal regulations that are very similar, although not identical, to existing State regulations on management of rockfish incidental catch in these management areas. Federal and State management inconsistencies may be eliminated, if the State mirrors Federal full retention requirements in all areas.

Elements of This Proposed Rule

The Analysis for this proposed rule is based on the most recent and best scientific information available, consistent with National Standard 2 of the Magnuson-Stevens Act, recognizing that some information (such as operational costs) are unavailable (see Section 3.1 of the Analysis).

This proposed rule has two main provisions. The first provision would require the operator of a CV required to have a federal fishery permit using hook-and-line, pot, or jig gear to retain and land all rockfish that are caught while fishing for groundfish or halibut in the EEZ of the BSAI and GOA, even if a species of rockfish is on prohibited species status.

The second provision addresses the disposition of retained amounts of rockfish. There is a need to establish a limit or allowance on the sale of rockfish caught as incidental catch that both provides an incentive for vessel operators to retain all rockfish and avoids elevated rates of rockfish incidental catch because rockfish MRAs would not apply under the proposed full retention requirement. This proposed rule would implement a limit called the maximum commerce allowance (MCA). The MCA would be calculated at each rockfish landing, and would limit the amount of rockfish allowed to enter commerce. The MCA for rockfish would be calculated as a percentage of the total retained groundfish and halibut landed during each delivery. Section 2.7.2.4 of the Analysis discusses establishing an MCA in detail.

The selection of the appropriate MCA percentage has some trade-offs. Low MCA percentages prioritize the avoidance of rockfish while fishing, but increases the number of trips that may have retained rockfish that cannot be sold. This could affect a vessel operator's compliance with full rockfish retention. Higher MCA percentages could result in more retention compliance. However, higher MCA percentages could also result in increased rockfish catch as vessel operators could seek areas with higher rockfish incidental catch, or change fishing behavior to engage in top-off fishing. “Top-off fishing” occurs when a vessel operator deliberately targets a valuable species that is closed to directed fishing in an attempt to reach the full MRA of that species.

The Council and NMFS considered a range of MCA percentages, and this rule proposes an MCA of 15 percent. This percentage balances the concern that an MCA that is too restrictive could increase effects on vessels and processors and create incentives to discard rockfish, with the concern that a less restrictive MCA could incentivize vessel operators to engage in top-off fishing of rockfish species and increase rockfish catch. Section 2.7.2.4 of the Analysis identified that a 15-percent MCA would allow vessel operators, for 84 to 89 percent of the trips that were analyzed, to sell all rockfish caught. The 15-percent MCA could limit financial incentives for vessel operators to catch more rockfish (Section 2.7.2.4 of the Analysis). For the remaining 11 to 16 percent of the trips that were analyzed, vessel operators would be able to sell most rockfish that were caught. Amounts in excess of the MCA would not be allowed to enter commerce, with the exception of fish meal.

Fish meal is considered a processed fish product that enters commerce. The Council recommended allowing rockfish in excess of the selected MCA to be processed into meal to address concerns raised by processors in communities such as Kodiak, Alaska. Vessel operators delivering fish to Kodiak and similar Alaska communities have limited options for discarding fish delivered to a processor that is unable to process retained rockfish or other species for human consumption. Allowing rockfish in excess of the MCA to be processed into meal is unlikely to provide any financial incentives to target rockfish, due to the low value of fish meal. Section 2.7.2.2 of the Analysis discusses fish meal and the impacts of full retention on processors in more detail.

This proposed rule would require full retention of rockfish even if NMFS prohibits retention of a rockfish species. When NMFS prohibits retention of a rockfish species, the MCA for that rockfish species would be zero percent. This is discussed in detail in Section 2.7.2.6 of the Analysis. The NMFS OLE expressed concern that there could be compliance issues if the Council did not recommend full retention when a rockfish species is on prohibited species status. The lack of a full retention requirement when a rockfish species is on prohibited species status could increase non-compliance of the retention limits by creating confusion and potential loopholes that would affect the ability to enforce the limits established under this proposed action. The primary goal of an action to prohibit retention is to remove financial incentives for vessel operators to continue to harvest a species. To remove some of the financial incentives that may result in top-off fishing when a rockfish species is placed on prohibited species status, the MCA for that species would be set to zero. This would remove financial incentives to harvest more rockfish than the true incidental catch and could result in CVs using hook-and-line, pot, or jig gear avoiding areas that have high incidental catch rates of those species.

Amounts of rockfish that are retained, but in excess of the MCA, could not be sold. However, this surplus rockfish could be used by vessel crew, donated, processed into fish meal, or discarded by processing plant personnel. The Council anticipates that most rockfish landed are likely to be processed; however, the decision to purchase, process, or discard rockfish is at the discretion of each individual processor. The Council also anticipates that most rockfish caught in excess of the MCA will be used in some way through personal use or charitable donations, thereby reducing waste and increasing the use of incidentally caught rockfish. Providing options such as retaining rockfish for personal use or donating it to charitable organizations would give vessel operators who dislike discarding dead fish an incentive for complying with the regulations associated with full retention of rockfish.

During the February 2019 Council meeting, public comments identified a concern about the potential for increased retention of yelloweye rockfish (S. ruberrimus) due to its relatively high value compared to other rockfish species. Yelloweye rockfish has a value that is two to three times more than other rockfish species. Potentially, vessel operators could change their fishing behavior to target yelloweye rockfish up to the 15-percent MCA. Section 2.7.2.4.1 of the Analysis provides additional detail on yelloweye rockfish value and retention rates. Based on these concerns, this proposed rule would establish a separate limit for yelloweye rockfish of 5 percent MCA in all areas, except the Southeast Outside District of the GOA (SEO) defined in Figure 3 of part 679. This limit would be established within the 15-percent overall MCA for all rockfish species. This more restrictive MCA for yelloweye rockfish, within the overall 15-percent MCA for all other rockfish, is intended to limit the incentive for vessel operators to target yelloweye rockfish. To aid the reader in understanding this provision, we provide the following example of how an MCA would be calculated and applied:

A vessel operator retains all rockfish during an IFQ halibut trip and delivers 1,000 pounds of halibut and 200 pounds of various rockfish species, of which 50 pounds is yelloweye rockfish. The MCA for rockfish is 150 pounds (1,000 * 0.15). The MCA for yelloweye rockfish is 50 pounds (1,000 * 0.05). The vessel operator could sell all yelloweye rockfish and 100 pounds of other rockfish species. Fifty pounds of rockfish could not enter commerce but could be donated or used by vessel crew.

To assist in resolving inconsistencies in management between State and Federal fisheries in the SEO, the Council recommended that current full retention requirements for demersal shelf rockfish (DSR) in the SEO remain unchanged. In the SEO (one of seven area in the GOA), vessel operators would be required to retain all rockfish, however the MCA would be different in the SEO from other areas of the GOA. The MCA for DSR species in the SEO would be limited to 10 percent of the aggregate round weight of retained IFQ halibut and groundfish, excluding sablefish, and one percent of the aggregate round weight of retained sablefish. This is necessary to avoid inconsistency in management between Federal and State fisheries as discussed in Sections 2.6.5 and 2.6.6 of the Analysis.

Regulatory Changes Made by the Proposed Rule

The following provides a brief summary of the regulatory changes that would be made by this proposed rule. This proposed rule would—

• Revise § 679.5(c)(3)(iv)(A)(3) to clarify that CVs using hook-and-line, pot, or jig gear are not required to record MRAs for rockfish since MRAs do not apply in full retention requirements.

• Add § 679.7(a)(5) to prohibit discard of rockfish from CVs using hook-and-line, pot, or jig gear.

• Revise § 679.7(f)(8) to clarify that rockfish are not required to be discarded.

• Revise § 679.20(d)(1)(iii)(B) to clarify that rockfish are not required to be discarded when rockfish are closed to directed fishing.

• Revise § 679.20(d)(2) to clarify that rockfish are still required to be retained by CVs using hook-and-line, pot, or jig gear, even if a species is on prohibited species status.

• Revise § 679.20(j) to include the full retention requirement, description of the MCA, and requirements for disposal of rockfish in excess of the MCA.

• Revise Table 10 and Table 11 to 50 CFR part 679 by adding a footnote to the rockfish column referencing § 679.20(j).

Classification

Pursuant to Sections 304(b)(1)(A) and 305(d) of the Magnuson-Stevens Act, the NMFS Assistant Administrator has determined that this proposed rule is consistent with Amendments 119/107, other provisions of the Magnuson-Stevens Act, and other applicable law, subject to further consideration of comments received during the public comment period.

This proposed rule has been determined to be not significant for the purposes of Executive Order 12866.

Regulatory Impact Review (RIR)

An RIR was prepared to assess all costs and benefits of available regulatory alternatives. A copy of this analysis is available from NMFS (see ADDRESSES). NMFS is recommending Amendments 119/107 and the regulatory revisions in this proposed rule based on those measures that maximized net benefits to the Nation. Specific aspects of the economic analysis are discussed below in the Initial Regulatory Flexibility Analysis section.

Initial Regulatory Flexibility Analysis (IRFA)

This Initial Regulatory Flexibility Analysis (IRFA) was prepared for this action, as required by Section 603 of the Regulatory Flexibility Act (RFA) to describe the economic impact this proposed rule, if adopted, would have on small entities. The IRFA describes the action; the reasons why this action is proposed; the objectives and legal basis for this proposed rule; the number and description of directly regulated small entities to which this proposed rule would apply; the recordkeeping, reporting, and other compliance requirements of this proposed rule; and the relevant Federal rules that may duplicate, overlap, or conflict with this proposed rule. The IRFA also describes significant alternatives to this proposed rule that would accomplish the stated objectives of the Magnuson-Stevens Act, and any other applicable statutes, and that would minimize any significant economic impact of this proposed rule on small entities. The description of the proposed action, its purpose, and the legal basis are explained in the preamble and are not repeated here.

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide.

Number and Description of Small Entities Directly Regulated by the Proposed Action

NMFS estimates that the entities directly regulated by this proposed rule are CVs using hook-and-line, pot, or jig gear in the BSAI and GOA. The thresholds applied to determine if an entity or group of entities are “small” under the RFA depend on the industry classification for the entity or entities. Based on the 2016 fishing season, 169 CVs were active using hook-and-line, pot, or jig gear in the BSAI, and 949 CVs were active using hook-and-line, pot, or jig gear in the GOA. Of these CVs, 136 in the BSAI and 932 in the GOA are considered small entities.

Description of Significant Alternatives That Minimize Adverse Impacts on Small Entities

Several aspects of this rule directly regulate small entities. Small entities would be required to comply with the requirements to retain rockfish. A full retention requirement for CVs using hook-and-line, pot, or jig gear could have operational implications for vessel operators. Since a CV using hook-and-line, pot, or jig gear would be required to retain all incidental catch of rockfish, this could reduce the CV's hold space, thereby displacing more valuable target species. Because this action would allow most of a CV's rockfish catch to enter commerce, the cost of requiring retention is estimated to be largely offset by the value of the rockfish. Therefore, the costs are expected to be minimal.

Section 2.7.2 of the Analysis describes the proposed requirements for requiring rockfish retention. The Council and NMFS determined that the benefits of the proposed revised regulations outweigh the costs of these additional requirements on the existing fleet. This proposed rule would meet the objectives of the action while minimizing adverse impacts on fishery participants.

This proposed rule would require full retention of all rockfish species by CVs using hook-and-line, pot, or jig gear in the BSAI and GOA. The management measures include full retention of rockfish even if the species is on prohibited species status, but these retained rockfish would be prohibited from entering commerce (i.e., being sold). Most of the expected effects sections in the Analysis focus on hook-and-line gear due to the amount of rockfish incidental catch encountered by hook-and-line gear compared to pot and jig gears. Section 2.7.2.1 of the Analysis indicates that the impact of requiring CVs using pot or jig gear to retain and land all rockfish catch would likely be minimal in relation to CVs using hook-and-line gear.

There are no significant alternatives to this proposed rule that would accomplish the objectives of requiring full retention of all rockfish species by CVs using hook-and-line, pot, or jig gear in the BSAI and GOA.

Recordkeeping, Reporting, and Other Compliance Requirements

The proposed rule contains no new recordkeeping or recording requirements. As explained in the “Provide More Precise Estimates of Rockfish Catch” section of this proposed rule, landed fish must be reported under existing Federal and State regulations. A more detailed explanation of current recordkeeping and reporting requirements for CVs using hook-and-line, pot, or jig gear can be found at § 679.5. Therefore, this proposed rule would meet the objectives of the action while minimizing the reporting burden for fishery participants.

Federal Rules That May Duplicate, Overlapping, or Conflict With the Proposed Action

No duplication, overlap, or conflict between this proposed action and existing Federal rules has been identified.

This proposed rule references collection-of-information requirements subject to the Paperwork Reduction Act (PRA), which have been approved by the Office of Management and Budget (OMB) under OMB Control Number 0648-0515 (Alaska Interagency Electronic Reporting System (IERS)).

The response time includes time for reviewing instructions, searching existing data sources, gathering and maintaining the data needed, and completing and reviewing the collection of information.

Send comments regarding this burden estimate, or any other aspect of this data collection, including suggestions for reducing the burden, to NMFS (see ADDRESSES), and by email to OIRA_Submission@omb.eop.gov, or fax to (202) 395-5806. Notwithstanding any other provision of the law, no person is required to respond to, nor shall any person be subject to a penalty for failure to comply with, a collection of information subject to the requirements of the PRA, unless that collection of information displays a currently valid OMB control number. All currently approved NOAA collections of information may be viewed at: https://www.reginfo.gov/public/do/PRAMain.

List of Subjects in 50 CFR Part 679

Alaska, Fisheries, Reporting and recordkeeping requirements.

Dated: September 25, 2019.
Samuel D. Rauch III,
Deputy Assistant Administrator for Regulatory Programs, National Marine Fisheries Service.

For reasons set out in the preamble, 50 CFR part 679 is proposed to be amended as follows:

PART 679—FISHERIES OF THE EXCLUSIVE ECONOMIC ZONE OFF ALASKA

1. The authority citation for part 679 continues to read as follows:

Authority: 16 U.S.C. 773 et seq.; 1801 et seq.; 3631 et seq.; Pub. L. 108-447; Pub. L. 111-281.

2. In § 679.5, revise paragraph (c)(3)(iv)(A)(3) to read as follows:

§ 679.5 Recordkeeping and reporting (R&R).

* * * * *

(c) * * *

(3) * * *

(iv) * * *

(A) * * *

(3) Retain and record discard quantities over the MRA. When a CV is fishing in an IFQ fishery and the fishery for Pacific cod is closed to directed fishing but not in PSC status in that reporting area as described in § 679.20, the operator must retain and record up to and including the maximum retainable amount (MRA) for Pacific cod as defined in Tables 10 or 11 to this part. Quantities over this amount must be discarded and recorded as discard in the logbook.

* * * * *

3. In § 679.7, add paragraph (a)(5), and remove and reserve paragraphs (f)(8)(i)(A) and (f)(8)(ii)(A) to read as follows:

§ 679.7 Prohibitions.

* * * * *

(a) * * *

(5) Rockfish by catcher vessels using hook-and-line, jig, or pot gear.

(i) For any person, to discard rockfish from a catcher vessel required to have a Federal fisheries permit that is fishing for groundfish or IFQ or CDQ halibut using hook-and-line, jig, or pot gear in the BSAI and GOA until that fish has been landed.

(ii) Exceed the maximum commerce allowance amount established under § 679.20(j).

* * * * *

(f) * * *

(8) * * *

(i) * * *

(A) [Reserved]

* * * * *

(ii) * * *

(A) [Reserved]

* * * * *

4. In § 679.20, revise paragraphs (d)(1)(iii)(B), (d)(2), and (j) to read as follows:

§ 679.20 General limitations.

* * * * *

(d) * * *

(1) * * *

(iii) * * *

(B) Retention of incidental species. Except as described in § 679.20(e)(3)(iii) and § 679.20(j), if directed fishing for a target species or species group is prohibited, a vessel may not retain that incidental species in an amount that exceeds the maximum retainable amount, as calculated under paragraphs (e) and (f) of this section, at any time during a fishing trip.

* * * * *

(2) Groundfish as prohibited species closure. When the Regional Administrator determines that the TAC of any target species specified under paragraph (c) of this section, or the share of any TAC assigned to any type of gear, has been or will be achieved prior to the end of a year, NMFS will publish notification in the Federal Register requiring that target species be treated in the same manner as a prohibited species, as described under § 679.21(a), for the remainder of the year, except rockfish species caught by catcher vessels using hook-and-line, pot, or jig gear as described in § 679.20(j)

* * * * *

(j) Full retention of rockfish by catcher vessels using hook-and-line, pot, or jig gear—(1) Retention and landing requirements. The operator of a catcher vessel that is required to have a Federal fisheries permit using hook-and-line, pot, or jig gear, must retain and land all rockfish that is caught while fishing for groundfish or IFQ or CDQ halibut in the BSAI and GOA.

(2) Maximum commerce allowance (MCA) for rockfish in the BSAI and GOA. Except as described in § 679.20(j)(4), when rockfish is closed to directed fishing, the operator of a catcher vessel that is required to have a Federal fisheries permit under § 679.4(b), or the manager of a shoreside processor that is required to have a Federal processor permit under § 679.4(f), must dispose of rockfish retained and landed in accordance with paragraph (j)(1) of this section as follows:

(i) A person may sell, barter, or trade a round weight equivalent amount of rockfish that is less than or equal to 15 percent of the aggregate round weight equivalent of IFQ halibut and groundfish species, other than rockfish, that are landed during the same fishing trip.

(ii) A person may sell, barter, or trade a round weight equivalent amount of yelloweye rockfish that is less than or equal to 5 percent of the aggregate round weight equivalent of IFQ halibut and groundfish species, other than rockfish, that are landed during the same fishing trip. The aggregate amount of all rockfish species sold, bartered, or traded cannot exceed the MCA established under paragraph (j)(2)(i) of this section.

(iii) Amounts of rockfish retained by catcher vessels under paragraphs (j)(2)(i) and (ii) of this section that are in excess of the limits specified in paragraphs (j)(2)(i) and (ii) of this section may be put to any use, including but not limited to personal consumption or donation, but must not enter commerce through sale, barter, or trade except as fish meal.

(3) MCA of DSR in Southeast Outside District of the GOA (SEO) when closed to directed fishing. When DSR is closed to directed fishing in the SEO, the operator of a catcher vessel that is required to have a Federal fisheries permit under § 679.4(b), or the manager of a shoreside processor that is required to have a Federal processor permit under § 679.4(f), must dispose of DSR retained and landed in accordance with paragraph (j)(1) of this section as follows:

(i) A person may sell, barter, or trade a round weight equivalent amount of DSR that is less than or equal to 10 percent of the aggregate round weight equivalent of IFQ halibut and groundfish species, other than sablefish, that are landed during the same fishing trip. The aggregate amount of all rockfish species sold, bartered, or traded cannot exceed the MCA established under paragraph (j)(2)(i) of this section.

(ii) A person may sell, barter, or trade a round weight equivalent amount of DSR that is less than or equal to 1 percent of the aggregate round weight equivalent of IFQ sablefish that are landed during the same fishing trip. The aggregate amount of all rockfish species sold, bartered, or traded cannot exceed the MCA established under paragraph (j)(2)(i) of this section.

(iii) Amounts of DSR retained by catcher vessels under paragraph (j)(1) of this section that are in excess of the limits specified in paragraphs (j)(3)(i) and (ii) of this section may be put to any use, including but not limited to personal consumption or donation, but must not enter commerce through sale, barter, or trade except as fish meal.

(4) MCA for rockfish when on prohibited species status. When a rockfish species is placed on prohibited species status under § 679.20(d)(2), the MCA is set to 0 percent and no amount of that rockfish species may enter commerce through sale, barter, or trade except as fish meal. The operator of a catcher vessel that is required to have a Federal fisheries permit under § 679.4(b), or the manager of a shoreside processor that is required to have a Federal processor permit under § 679.4(f), may put rockfish retained and landed in excess of the MCA specified in this paragraph to any use, including but not limited to personal consumption or donation, but such rockfish must not enter commerce through sale, barter, or trade except as fish meal.

5. Revise Table 10 to part 679 to read as follows:

BILLING CODE 3510-22-P

6. Revise Table 11 to part 679 to read as follows:

[FR Doc. 2019-21262 Filed 10-1-19; 8:45 am]

BILLING CODE 3510-22-C